DEPARTMENT OF AGRICULTURE

Forest Service

Ochoco National Forest, Lookout Mountain Ranger District; Oregon; Spears Vegetation Management Project

AGENCY: Forest Service, USDA.

ACTION: Notice of intent to prepare an environmental impact statement.

SUMMARY: The USDA Forest Service is proposing to conduct timber harvest, noncommercial thinning, and fuels reduction activities in the Marks Creek Wateshed. The proposal includes the connected action of constructing 19.5 miles of road. The project area covers approximately 39,200 acres.

DATES: Comments concerning the scope of the analysis must be received by June 26, 2006. The draft environmental impact statement is expected by September 2006 and the final environmental impact statement is expected in March 2007.

ADDRESSES: Send written comments to Arthur J. Currier, District Ranger, Lookout Mountain Ranger District, Ochoco National Forest, 3160 NE., Third Street, Prineville, Oregon 97754. Alternately, electronic comments can be sent to comments-pacificnorthwest-ochoco@fs.fed.us.

FOR FURTHER INFORMATION CONTACT: Kathy Farrell, Project Leader, at the address listed above.

SUPPLEMENTARY INFORMATION:

Purpose and Need for Action

The purpose and need for this p proposal is to (1) maintain and increase the abundance of late and old structure (LOS) stands; (2) reduce fuels and the potential for high-intensity wildfires; (3) maintain conditions that would currently support low-intensity fires; (4) reduce the susceptibility of the landscape to large-scale infestation by insects and disease; (5) enhance hardwood communities, such as aspen and cottonwood; (6) increase riparian vegetation and large tree structure in RHCAs; and (7) increase early-seral species composition.

Proposed Action

The Lookout Mountain Ranger District is proposing to manage vegetation through commercial timber harvest, noncommercial thinning, and fuel reduction activities. The proposed action includes approximately 6,250 acres of commercial harvest and 11,000 acres of noncommercial thinning. Fuel reduction activities include approximately 15,250 acres of prescribed fire, and 3,150 acres of grapple and 700 acres of hand piling. Commercial harvest includes tractor, skyline, and helicopter logging systems. Areas identified as tractor logging are areas where heavy equipment, such as logging tractors/skidders, will be used to remove a commercial product. Road construction activities include 19.5 miles of new road construction, and 15.5 miles of reconstructing roads on an existing road bed. Newly constructed roads and roads that are reopened would be closed after harvest activities are complete.

Possible Alternatives

At this time, the Forest Service is considering at least three alternatives. The no action alternative is the baseline for comparison and will analyze the effects of natural processes along with ongoing activities such as road maintenance and recreation use. Ongoing activities, such as road maintenance, noxious weeds treatments, and recreational use, would continue. Access for public and administrative purposes would continue on the existing transportation system. Alternative 2, the proposed action, will analyze the effects of timber harvest, noncommercial thinning, and prescribed fire activities, along with the connected road construction activities. The third alternative being considered at this time would analyze the effects of only conducting noncommercial thinning and prescribed fire activities. Other possible alternatives may reduce or restrict the amount of road construction activities. The action alternatives will examine combinations and degrees of activities in order to meet the purpose of and need for action and concerns stated during the public scoping process.

Responsible Official

The responsible official for this project is Jeff Walter, Forest Supervisor, Ochoco National Forest, 3160 NE., Third Street, Prineville, Oregon 97754.

Nature of Decision to be Made

The Forest Supervisor will decide whether to conduct timber harvest, noncommercial thinning, and prescribe fire treatments within the Spears project area. The decision will be based on the information disclosed in the EIS, and the goals, objectives, and desired future conditions as stated in the Forest Plan as amended. The responsible official will consider significant issues, public comments, environmental consequences, and compliance with applicable laws, regulations, and policies in making his decision. The rationale for the decision will be stated in the Record of Decision for the project.

Scoping Process

The Lookout Mountain Ranger District intends to scope for information by mailing letters to adjacent landowners, persons, and organizations interested or potentially affected by the proposed action. The Lookout Mountain Ranger District will hold a public meeting during the summer of 2006. The Lookout Mountain Ranger District will also meet with the Crook County Natural Resources Planning Committee during the analysis process. This project will also be included in the Ochoco National Forest Quarterly Schedule of Proposed Actions for the duration of the environmental analysis.

Preliminary Issues

The Lookout Mountain Ranger District has identified three preliminary issues related to the proposed action. They are: (1) The amounts and kinds of activities in the Bandit Springs Recreational Area could alter the character of the area and cause recreational use of the area and cause recreational use of the area to decline. (2) Road construction and reconstruction activities could increase disturbance to wildlife species such as deer, elk, and birds. (3) Commercial timber harvest, underburning, and road construction and reconstruction activities can increase sediment and cause a decline in water quality. Commercial harvest and noncommercial thinning can also cause a reduction in shade on streams and cause an increase in stream temperatures.

Comment Requested

This notice of intent is part of the scoping process that will guide the development of the environmental impact statement. The primary purpose of scoping is to gather public comments, issues, and concerns regarding the proposed action. Comments, issues, and concerns may be used to formulate alternatives. Comments are most helpful if they are as specific as possible and relate to the proposed action. Comments should include the name, address, and, if possible, telephone number of the commenter. Electronic comments must be submitted as part of the actual e-mail message, or as an attachment in plain text (.txt), Microsoft Word (.doc), rich text format (.rtf), or portable document format (.pdf). Comments received in response to this solicitation, including the names and addresses of those who comment, will be considered part of the public record and will be available for public inspection.

Early Notice of Importance of Public Participation in Subsequent Environmental Review

A draft environmental impact statement will be prepared and made available for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these joints.

Dated: May 19, 2006.
Arthur J. Currier,
District Ranger.

[FR Doc. 06-5049 Filed 6-1-06; 8:45 am]

BILLING CODE 3410-11-M